INTERNATIONAL TRADE COMMISSION

[Investigation No. 731-TA-747 (Final)]

Fresh Tomatoes From Mexico; Resumption of the Final Phase of an Anti-Dumping Duty Investigation

AGENCY: United States International Trade Commission.

ACTION: Notice.

SUMMARY: The Commission hereby gives notice of the resumption of the final phase of antidumping investigation No. 731-TA-747 (Final) pursuant to the Tariff Act of 1930 (“the Act”) to determine whether an industry in the United States is materially injured or threatened with material injury, or the establishment of an industry in the United States is materially retarded, by reason of imports of fresh tomatoes from Mexico preliminarily determined by the Department of Commerce (“Commerce”) to be sold at less than fair value (“LTFV”).¹

¹ For purposes of this investigation, Commerce has defined the subject merchandise as all fresh or chilled tomatoes (fresh tomatoes) which have Mexico as their origin, except for those tomatoes which are for processing. Processing is defined to include preserving by any commercial process, such as canning, dehydrating, drying, or the addition of chemical substances, or converting the tomato product into juices, sauces, or purees. Fresh tomatoes that are imported for cutting up, not further processing (e.g., tomatoes used in the preparation of fresh salsa or salad bars), are covered by the investigation.

Commercially grown tomatoes, both for the fresh market and for processing, are classified as Lycopersicon esculentum. Important commercial varieties of fresh tomatoes include common round, cherry, grape, plum, greenhouse, and pear tomatoes, all of which are covered by this investigation.

Tomatoes imported from Mexico covered by this investigation are classified under the following subheading of the Harmonized Tariff Schedule of the United States (HTSUS), according to the season of importation: 0702. Although the HTSUS numbers are provided for convenience and customs purposes, the written description of the scope of this investigation is dispositive.

Fresh Tomatoes from Mexico: Termination of Suspension Agreement, Rescission of Administrative Review, and Continuation of the Antidumping Duty Investigation. 84 FR 20858, 20860 May 13, 2019.

DATES: May 7, 2019.

FOR FURTHER INFORMATION CONTACT: Christopher W. Robinson ((202) 205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION:

Background.—On April 1, 1996, the Commission instituted a preliminary antidumping investigation in response to a petition filed by the Florida Tomato Growers Exchange, Orlando, FL; Florida Fruit and Vegetable Association, Orlando, FL; Florida Farm Bureau Federation, Gainesville, FL; South Carolina Tomato Association, Inc., Charleston, SC; Gadsden County Tomato Growers Association, Inc., Quincy, FL; Accomack County Farm Bureau, Accomack, VA; Florida Tomato Exchange, Orlando, FL; Bob Crawford, Commissioner of Agriculture, Florida Department of Agriculture and Consumer Services, Tallahassee, FL; and the Ad Hoc Group of Florida, California, Georgia, Pennsylvania, South Carolina, Tennessee, and Virginia Tomato Growers (61 FR 15968, April 10, 1996). On May 16, 1996, the Commission notified Commerce of its affirmative preliminary injury determination (61 FR 28891, June 6, 1996). On October 28, 1996, Commerce preliminarily determined that imports of fresh tomatoes from Mexico were being sold at LTFV in the United States (61 FR 56608, November 1, 1996). Also on October 28, 1996, Commerce and certain growers/exporters of fresh tomatoes from Mexico signed a final suspension agreement (61 FR 56618, November 1, 1996). Accordingly, effective November 1, 1996, the Commission suspended its antidumping investigation (61 FR 58217, November 13, 1996).

On October 1, 2001, Commerce initiated and the Commission instituted their first five-year reviews to determine whether termination of the suspended investigation on fresh tomatoes from Mexico would likely lead to a continuation or recurrence of material injury (66 FR 49926, 66 FR 49975). On July 30, 2002, Commerce terminated the suspension agreement and its first review and resumed its antidumping investigation (67 FR 50858, August 6, 2002). Accordingly, the Commission terminated its first review on July 30, 2002 (67 FR 53361, August 15, 2002) and resumed its antidumping investigation (67 FR 56854, September 5, 2002). On December 16, 2002, Commerce and the Commission suspended their resumed antidumping investigations when Commerce signed a new suspension agreement with certain growers/exporters of fresh tomatoes from Mexico (67 FR 77044; 67 FR 78815, December 26, 2002).

On November 1, 2007, Commerce initiated and the Commission instituted their second five-year reviews of the suspended investigation (72 FR 61861, 72 FR 61905). Commerce terminated the suspension agreement and its second review and resumed its antidumping investigation, effective January 18, 2008 (73 FR 2887, January 16, 2008). The Commission consequently terminated its second review of the suspended investigation and resumed its antidumping investigation, effective January 18, 2008 (73 FR 5869, January 31, 2008). The antidumping investigation was suspended effective January 22, 2008, when Commerce signed a new suspension agreement with certain growers/exporters of fresh tomatoes from Mexico (73 FR 4831, January 28, 2008; 73 FR 7762, February 11, 2008).

On December 3, 2012, Commerce initiated and the Commission instituted their third five-year reviews of the suspended investigation (77 FR 71684, 77 FR 71629). On March 1, 2013, Commerce terminated the suspension agreement and its third review and resumed its antidumping investigation (78 FR 14771, March 7, 2013). On March 4, 2013, the Commission terminated its third review and resumed its antidumping investigation (78 FR 16529, March 15, 2013). Also on March 4, 2013, Commerce signed a new suspension agreement with certain grower/exporters of fresh tomatoes from Mexico and suspended its antidumping investigation (78 FR 14967, March 8, 2013). Effective March 4, 2013, the Commission suspended its antidumping investigation (78 FR 16529, March 15, 2013).

On February 1, 2018, Commerce initiated and the Commission instituted their fourth five-year reviews of the suspended investigation (83 FR 4641, 83 FR 4676). On May 7, 2019, Commerce terminated the suspension agreement and resumed its antidumping investigation (84 FR 20858, May 13, 2019). Effective May 7, 2019, the Commission terminated its fourth review (84 FR 21360, May 14, 2019) and has resumed its antidumping investigation.

A schedule for the final phase of this investigation will be issued at a later date.

Authority: This investigation is being conducted under authority of title VII of the Tariff Act of 1930; this notice is published pursuant to section 207.21 of the Commission's rules.

By order of the Commission.
Issued: June 10, 2019.
Lisa Barton,
Secretary to the Commission.

[FR Doc. 2019-12535 Filed 6-13-19; 8:45 am]

BILLING CODE 7020-02-P